DEPARTMENT OF ENERGY

Federal Energy Regulatory Commission

[Project No. 14066-002]

Inside Passage Electric Cooperative; Notice of Application Tendered for Filing With the Commission and Soliciting Additional Study Requests

Take notice that the following hydroelectric application has been filed with the Commission and is available for public inspection.

a. Type of Application: Original minor license.

b. Project No.: P-14066-002.

c. Date filed: May 25, 2012.

d. Applicant: Inside Passage Electric Cooperative.

e. Name of Project: Gartina Falls Hydroelectric Project.

f. Location: On Gartina Creek, near the Town of Hoonah, Alaska. The project would not occupy any federal lands.

g. Filed Pursuant to: Federal Power Act, 16 U.S.C. 791(a)-825(r).

h. Applicant Contact: Mr. Peter A. Bibb, Operations Manager, Inside Passage Electric Cooperative, P.O. Box 210149, 12480 Mendenhall Loop Road, Auke Bay, AK 99821, (907) 789-3196, pbibb@ak.net.

i. FERC Contact: Ryan Hansen, 888 1st St. NE., Washington, DC 20426, (202) 502-8074, ryan.hansen@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 30 days from the date of filing of the application, and serve a copy of the request on the applicant.

l. Deadline for filing additional study requests and requests for cooperating agency status: June 25, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The proposed Gartina Falls project would consist of: (1) A 56-foot-long, 14-foot-high concrete diversion structure at the head of Gartina Falls; (2) a sluiceway constructed on the left side of the center diversion section to convey flow to an intake chamber; (3) an approximately 54-inch-diameter, 225-foot-long steel penstock that would convey water from the intake chamber to the powerhouse; (4) a powerhouse containing a single 445-kilowatt cross-flow turbine/generator unit, discharging flows directly to Gartina Creek; (5) an approximately 3.8-mile-long, 12.5-kilovolt transmission line; (6) an approximately 0.5-mile-long access road; and (7) appurtenant facilities. The estimated annual generation output for the project is 1.81 gigawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance—June 2012.

Issue Scoping Document 1 for comments—July 2012.

Issue notice of ready for environmental analysis—December 2012.

Commission issues final EA or final EIS—April 2013.

Dated: June 6, 2012.
Kimberly D. Bose,
Secretary.

[FR Doc. 2012-14450 Filed 6-12-12; 8:45 am]

BILLING CODE 6717-01-P